DEPARTMENT OF HEALTH AND HUMAN SERVICES

Centers for Disease Control and Prevention

[30Day-04-048X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project: Evaluation of James A. Ferguson Emerging Infectious Diseases Fellowship Program—New—National Center for Infectious Diseases (NCID), Centers for Disease Control and Prevention (CDC).

CDC is particularly concerned with the racial, ethnic, and gender health disparities in the distribution of infectious diseases in the U.S. To help address the health and well-being of minority and underserved populations, CDC endeavors to train a racially and ethnically diverse public health workforce. Since 1989, the James A. Ferguson Emerging Infectious Disease Summer Fellowship Program, which is administered by the Minority Health Professions Foundation (MHPF), has been providing an eight-week program of educational and experiential opportunities for racial and ethnic minority medical, dental, pharmacy, veterinary, and public health graduate students. The Fellows are given opportunities to explore the wide range of public health career options available to them once their formal training is completed. As of summer 2003, 311 Fellows have completed the program.

The purpose of this study is to conduct a multi-facet evaluation of the Ferguson Fellowship Program. The data from this study will be used to develop planning and decision making initiatives regarding expansion and funding. The study aims to evaluate and measure the success of the program for the dual purposes of program expansion and encouraging other organizations to implement similar mechanisms to increase the presence of racial and ethnic minorities in public health. Data for this study will be collected from relevant documents, telephone interviews with key stakeholders, and a mail survey of Ferguson Fellows.

CDC proposes to conduct the study to (1) examine the views and perspectives of the constituents and their experiences with the Ferguson Fellowship Program and (2) assess the impact of the program on strengthening and diversifying the workforce and addressing racial and ethnic health disparities in the field of Public Health. To minimize respondent burden, the mail survey questionnaire will be carefully developed so that questions are relevant and succinct.

The information obtained from this project will enable CDC to make important decisions regarding the program's future expansion and funding. Responses are voluntary. No proprietary items or questions of a sensitive nature will be collected. There are no costs to respondents other than their time. The annualized burden is estimated to be 156 hours.

Form | Number of respondents | Number of responses per respondent | Average burden per response (in hours)
Survey | 311 | 1 | 30/60

Dated: November 26, 2004.
B. Kathy Skipper,
Acting Director, Management Analysis and Services Office, Centers for Disease Control and Prevention.

[FR Doc. 04-26655 Filed 12-2-04; 8:45 am]

BILLING CODE 4163-18-P